DEPARTMENT OF THE INTERIOR

National Park Service

[NPS-BSD-CONC-10370; 2410-OYC]

Agency Information Collection Activities: 30-Day Notice of Intention To Request Clearance of Collection of Information; Opportunity for Public Comment

AGENCY: National Park Service, U.S. Department of the Interior.

ACTION: Notice and request for comments.

SUMMARY: We (National Park Service) will ask the Office of Management and Budget (OMB) to approve the information collection request (ICR) described below. As required by the Paperwork Reduction Act of 1995 and as part of our continuing efforts to reduce paperwork and respondent burden, we invite the general public and other Federal agencies to take this opportunity to comment on this ICR which is an extension of a currently approved collection of information (OMB #1024-0126). We may not conduct or sponsor, and a person is not required to respond to, a collection of information unless it displays a currently valid OMB control number.

DATES: To ensure that your comments on this ICR are considered, please submit them on or before July 23, 2012.

ADDRESSES: Please submit written comments on this information collection directly to the Office of Management and Budget (OMB) Office of Information and Regulatory Affairs, Attention: Desk Officer for the Department of the Interior via email to OIRA_DOCKET@omb.eop.gov or fax at 202-395-5806; and identify your submission as 1024-0126, Proposed Sale of Concession Operations, 36 CFR 51, Subpart J. Please send a copy your comments to Madonna L. Baucum, Acting Information Collection Clearance Officer, National Park Service, 1849 C Street NW., Mailstop 2605 (Rm. 1242), Washington, DC 20240 (mail); or madonna_baucum@nps.gov (email).

FOR FURTHER INFORMATION CONTACT: Ms. Jo A. Pendry, Chief, Commercial Services Program, National Park Service, 1849 C Street NW., Mailstop 2410, Washington, DC 20240 (mail); jo_pendry@nps.gov (email); or (202) 371-2090 (fax). To see a copy of the entire ICR submitted to OMB, go to http://www.reginfo.gov (Information Collection Review, Currently under Review).

I. Abstract

The NPS authorizes private businesses known as concessioners to provide necessary and appropriate visitor facilities and services in areas of the National Park System. Concession authorizations may be assigned, sold, transferred, or encumbered by the concessioner subject to prior written approval of the NPS. The NPS requires that certain information be submitted for review prior to the consummation of any sale, transfer, assignment, or encumbrance. The information requested is used to determine whether or not the proposed transaction will result in an adverse impact on the protection, conservation, or preservation of the resources of the unit of the National Park System; decreased services to the public; the lack of a reasonable opportunity for profit over the remaining term of the authorization; or rates in excess of approved rates to the public. In addition, pursuant to the regulations at 36 CFR part 51, the value of rights for intangible assets such as the concession contract, right of preference in renewal, user days, or low fees, belongs to the Government. If any portion of the purchase price is attributable either directly or indirectly to such assets, the transaction may not be approved. The amount and type of information to be submitted varies with the type and complexity of the proposed transaction. Without such information, the NPS would be unable to determine whether approval of the proposed transaction would be adequate.

II. Data

OMB Control Number: 1024-0126.

Title: Proposed Sale of Concession Operations, 36 CFR 51, Subpart J.

Form(s): None.

Type of Request: Extension of a previously approved collection of information.

Description of Respondents: Businesses, nonprofit organizations.

Respondent Obligation: Required to obtain or retain a benefit.

Frequency of Response: On occasion.

Estimated Total Annual Responses: 20

Estimated Average Completion Time per Response: 80 hours.

Estimated Total Annual Burden Hours: 1,600 hours.

Estimated Annual Nonhour Burden Cost: $5,000.

III. Request for Comments

We invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: June 19, 2012.
Madonna L. Baucum,
Acting Information Collection Clearance Officer, National Park Service.

[FR Doc. 2012-15296 Filed 6-21-12; 8:45 am]

BILLING CODE 4312-52-P